DEPARTMENT OF TRANSPORTATION

14 CFR Part 71

[Airspace Docket No. 01-AGL-01]

Modification of Class D Airspace; Rockford, IL; Modification of Class E Airspace; Rockford, IL; Correction

AGENCY: Federal Aviation Administration (FAA), DOT.

ACTION: Final rule; correction.

SUMMARY: This action corrects two errors in the legal descriptions of a final rule that was published in the Federal Register on Tuesday, April 2, 2002 (67 FR 15478). The Final Rule modified Class D and Class E airspace at Rockford, IL.

EFFECTIVE DATE: 0901 UTC, June 13, 2002.

FOR FURTHER INFORMATION CONTACT: Denis C. Burke, Air Traffic Division, Airspace Branch, AGL-520, Federal Aviation Administration, 2300 East Devon Avenue, Des Plaines, IL 60018, telephone: (847) 294-7477.

SUPPLEMENTARY INFORMATION:

History

Federal Register Document 02-7858 published on Tuesday, April 2, 2002 (67 FR 15478), modified Class D and Class E Airspace at Rockford, IL. The latitude and longitude was omitted for the Greater Rockford ILS localizer in the Class E legal description. In addition, runway 36 was referred to in the Class D legal description, instead of runway 1. This action corrects these errors, by adding the missing latitude and longitude, and changing the runway identifier.

Accordingly, pursuant to the authority delegated to me, the errors for the Class D and Class E Airspace, Rockford, IL, as published in the Federal Register Tuesday, April 2, 2002 (67 FR 15478), (FR Doc. 02-7858), are corrected as follows:

§ 71.1 [Corrected]

1. On page 15478, Column 3, correct the Class E legal description as follows:

a. Add the following immediately below:

“Greater Rockford Airport, IL

(Lat. 42°11′43″N., long. 89°05′50″W.)”: Greater Rockford ILS Localizer

(Lat. 42°12′36″N., long. 89°05′17″W.)

2. On page 15478, Column 3, correct the Class D legal description as follows:

a. Change “Runway 36 ILS localizer course” to read: “Runway 1 ILS localizer course”.

Issued in Des Plaines, Illinois on April 25, 2002.
Nancy B. Shelton,
Manager, Air Traffic Division, Great Lakes Region.

[FR Doc. 02-13215 Filed 5-28-02; 8:45 am]

BILLING CODE 4910-13-M